DEPARTMENT OF DEFENSE

Department of the Army

Intent To Grant an Exclusive License of a U.S. Government-Owned Patent

AGENCY: Department of the Army, DoD.

ACTION: Notice.

SUMMARY: In accordance with 35 U.S.C. 209 and 37 CFR 404.7(a)(1)(i), announcement is made of the intent to grant an exclusive, royalty-bearing, revocable license within the geographic area of the United States of America and its territories and possessions to U.S. Patent number 6,181,303, issued on January 30, 2001 entitled “Flat panel three-dimensional display unit”, to Polaris Sensor Technologies, Inc. with its principal place of business at 200 West Court Square Suite 302, Huntsville, AL 35801.

ADDRESSES: Commander, U.S. Army Research Development and Engineering Command, ATTN: AMSRD-AMR-AS-PT-TR, Bldg 5400, Redstone Arsenal, AL 35898-5000.

FOR FURTHER INFORMATION CONTACT: For licensing issues, Ms. Cindy Wallace, Office of Research & Technology Applications, (256) 313-0895.

SUPPLEMENTARY INFORMATION: Two liquid crystal display panels, stacked together into a flat compact unit, in conjunction with a dedicated processor producing the appropriate video signals to drive the panels, generates a pair of polarization-encoded left and right images and exhibits them as a stereo image that is viewable through a pair of standard polarized glasses. This makes it possible to obtain stereo effect at a video workstation or at a console by eliminating the bulky box-like setup or the need to project onto a screen.

Brenda S. Bowen,
Army Federal Register Liaison Officer.

[FR Doc. 07-2264 Filed 5-7-07; 8:45 am]

BILLING CODE 3710-08-M